DEPARTMENT OF HEALTH AND HUMAN SERVICES

Centers for Disease Control and Prevention

Reorganization of the Office of Communications

AGENCY: Centers for Disease Control and Prevention (CDC), the Department of Health and Human Services (HHS).

ACTION: Notice.

SUMMARY: CDC has modified its structure. This notice announces the reorganization of the Office of Communications (OC). OC has established the Office of Emergency Risk Communications by realigning the Emergency Risk Communications Branch formerly of the Center for Preparedness and Response, Division of Emergency Operations. Additionally, OC retitled and updated mission and functional statements updates to some organizational entities.

DATES: This reorganization was approved by the Director of CDC on June 28, 2023.

FOR FURTHER INFORMATION CONTACT: D'Artonya Graham, Office of the Chief Operating Officer, Office of the Director, Centers for Disease Control and Prevention, 1600 Clifton Road NE, MS TW-2, Atlanta, GA 30329; Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the Office of Communications, Immediate Office of the Director, Centers for Disease Control and Prevention. Specifically, the changes are as follows:

I. Under Part C, Section C-B, Organization and Functions, insert the following:

Office of Emergency Risk Communications (CAU17). (1) prepares for and coordinates CDC's communication response to public Incident Management System (IMS) health threats and emergencies, serving as the agency's primary communication liaison with Federal (including through Emergency Support Function #15, External Affairs), state, tribal, local, and territorial, and international partners; (2) identifies, develops, coordinates, and monitors strategies for translation and delivery of CDC's emergency risk communication messages and information to specific audiences for maximum health impact; (3) coordinates and integrates emergency and risk communication activities within CDC to respond to public health emergencies; (4) co-leads the Joint Information Center (JIC) within an IMS during CDC emergency responses; (5) develops emergency risk communication recommended practices and curriculum, and supports emergency risk communication capacity building through technical assistance and training; (6) ensures that CDC's emergency risk communication messages are available, timely, accessible, understandable, culturally appropriate, and actionable; (7) develops and manages channels and partner engagement mechanisms to distribute emergency risk communication messages before, during, and after public health emergencies; (8) creates and manages systems, procedures, processes, and platforms (including CDC's Emergency Preparedness and Response internet site) for CDC's emergency communication activities; (9) manages and implements protocols to clear public health emergency information; (10) conducts research, monitoring, and evaluation to assess awareness, knowledge, attitudes, reactions, and behaviors related to urgent health threats and refine preparedness, readiness, and emergency risk communication strategies and tactics; and (11) supports the development, maintenance, and implementation of policies related to public health emergency risk communication activities.

II. Under Part C, Section C-B, Organization and Functions, retitle the following organizational units:

• Office of External Engagement (CAU15) to the Office the CDC Museum (CAU15)

III. Under Part C, Section C-B, Organization and Functions, delete the mission or functional statements for and replace with the following:

Office of Communications (CAU). The mission of the Office of the Communications (OC) is to enhance CDC's communication impact, manage the high visibility of the agency and its senior leaders, and guide public health messaging through support to programs. The office: (1) provides leadership, direction, support, and assistance to CDC's Centers, Institute and Offices (CIOs) to implement communication strategies; (2) promotes clear, accessible, and inclusive communication; (3) conducts and promotes health communication science practices to address agency priorities; (4) oversees and manages CDC interactions with news media; (5) develops strategy and oversees communication response for crisis and agency priorities; (6) strategically protects and advances CDC's reputation, credibility and interests; (7) coordinates CDC partnerships to advance communication-related relationships; (8) develops, guides, and implements internal and external public affairs strategies and activities; (9) provides leadership on all aspects of digital communications; (10) provides leadership for emergency and risk communications and CDC's communication response to public IMS health threats and emergencies; and (11) supports or provides communication services, including but not limited to broadcast, multimedia, public information, graphics and design elements, translation, printing, and photography.

Office of the Director (CAU1). (1) manages, directs, and evaluates activities of the OC; (2) makes sure CDC communication activities comply with HHS-established policies; (3) communicates the value and benefits of CDC programs; (4) leads strategic communication activities addressing agency-wide priorities; (5) provides strategic communication support for CDC's emergency responses and JIC; (6) provides reputation-management expertise and counsel; (7) provides leadership and guidance to communicate decisions made by CDC's leadership in an efficient and clear manner; (8) coordinates with CIOs on communication activities; (9) serves as the central point of contact for Office of the Director executive communication, including enterprise communication, speaking engagements, announcements, and speeches; (10) provides communication leadership on equity, healthy equity, diversity, inclusion, and accessibility initiatives; (11) provides leadership and guidance to manage and operate OC's programs, including the areas of fiscal management, human capital, travel, and other administrative services; (12) develops and tracks annual budget and spend plan to fulfill CDC's communication priorities; (13) serves as OC's primary point of contact with CDC's Office of Financial Resources on contracts and budget matters; (14) ensures communication products authored by CDC staff members or published by CDC are released for public use in a timely manner, are of the highest quality, and are scientifically sound, inclusive, and understandable; (15) provides leadership and strategic direction for emergency and risk communication activities; and (16) prepares for and coordinates CDC's communication response to IMS health threats and emergencies, serving as the agency's primary communication liaison with Federal state, tribal, local, and territorial, and international partners.

Office of the CDC Museum (CAU15). (1) manages CDC's scientific museum and learning center, the David J. Sencer CDC Museum; and (2) implements strategies to educate visitors about the value of public health through museum exhibitions, CDC's historical collection, student programs, tours, and other engagement strategies.

Division of Communication Sciences and Services (CAUE). (1) promotes the scientific practice of health communication and disseminates evidence-based knowledge to practitioners of health communication, marketing, and media; (2) provides agency-wide support for communication services including photography, translation, printing, conference materials, and communication consultation/analysis leadership and support; (3) guides CIOs on applying measures of effectiveness for public health communication efforts; and (4) leads CDC's health literacy improvement work and Plain Writing Act implementation.

Communication Support and Services Branch (CAUEC). (1) provides communication consultation and support services (e.g., photography, multi-lingual translation, writing, and editing); (2) manages multi-year, multi-vendor CDC-wide communication contracts for CIOs; (3) oversees agency-wide print management program; and (4) coordinates the materials for use at public health conferences.

IV. Under Part C, Section C-B, Organization and Functions, the following organizational unit is deleted in its entirety:

• Emergency and Risk Communications Branch (CBCDB) within the Division of Emergency Operations (CBCD), Center for Preparedness and Response (CBC)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14700 Filed 7-11-23; 8:45 am]

BILLING CODE 4163-18-P